ELECTION ASSISTANCE COMMISSION

Sunshine Act Meeting Notice

AGENCY: United States Election Assistance Commission.

ACTION: Notice of public meeting for the Technical Guidelines Development Committee.

Date and Time: Monday, May 21, 2007, 9 a.m. to 5:30 p.m. EST. Tuesday, May 22, 2007, 8:30 a.m. to 2 p.m. EST.

Place: National Institute of Standards and Technology, 100 Bureau Drive, Building 101, Employees Lounge Gaithersburg, Maryland 20899-8900.

Status: This meeting will be open to the public. There is no fee to attend, but, due to security requirements, advance registration is required. Registration and additional meeting information will be available at http://www.vote.nist.gov by May 1, 2007. This meeting will be Web cast.

SUMMARY: The Technical Guidelines Development Committee (the “Development Committee”) has scheduled a plenary meeting for May 21st and 22nd, 2007. The Development Committee was established in 2004 to act in the public interest to assist the Executive Director of the U.S. Election Assistance Commission (EAC) in the development of voluntary voting system guidelines. The Development Committee has held eight previous meetings. The proceedings of these plenary sessions are available at http://vote.nist.gov. The purpose of the ninth meeting of the Development Committee will be to review and approve a revised draft of recommendations for future voluntary voting system guidelines to the EAC. The draft recommendations respond to tasks defined in resolutions passed at the previous Development Committee meetings as well as a review of an initial draft of recommendations presented at the March 2007 plenary meeting.

SUPPLEMENTARY INFORMATION: The Technical Guidelines Development Committee (the “Development Committee”) has scheduled a plenary meeting for May 21st and 22nd, 2007. The Committee was established pursuant to 42 U.S.C. 15361, to act in the public interest to assist the Executive Director of the Election Assistance Commission in the development of the voluntary voting system guidelines. The Technical Guidelines Development Committee held their first plenary meeting on July 9, 2004. At this meeting, the Development Committee agreed to a resolution forming three working groups: (1) Human Factors & Privacy; (2) Security & Transparency; and (3) Core Requirements & Testing to gather information and review preliminary reports on issues pertinent to voluntary voting standard recommendations. At subsequent plenary sessions, additional resolutions were debated and adopted by the TGDC. The resolutions define technical work tasks for NIST that assist the TGDC in developing recommendations for voluntary voting system guidelines. The Development Committee approved initial recommendations for voluntary voting system guidelines at the April 20th & 21st, 2005 meeting. The recommendations were formally delivered to the EAC in May 2005 for their review. In September of 2005, the Development Committee began review of preliminary technical reports for the next iteration of voluntary voting system guidelines. The Committee will review, debate and approve draft recommendations for the next iteration of voluntary voting system guidelines at the May 21st and 22nd, 2007 meeting.

Contact Information: Allan Eustis 301-975-5099. If a member of the public would like to submit comments concerning the Committee's affairs at any time before or after the meeting, written comments should be addressed to the contact person indicated above, c/o NIST, 100 Bureau Drive, Mail Stop 8970, Gaithersburg, Md 20899 or to voting@nist.gov.

Thomas R. Wilkey,
Executive Director, U.S. Election Assistance Commission.

[FR Doc. 07-1982 Filed 4-17-07; 3:45 pm]

BILLING CODE 6820-KF-M